FEDERAL EMERGENCY MANAGEMENT AGENCY

Notice of Opportunity To Comment on Snow Emergency and Severe Winter Storm Declarations and Snow Removal Assistance Policy

AGENCY: Federal Emergency Management Agency (FEMA).

ACTION: Notice of opportunity for comment.

SUMMARY: FEMA is proposing to publish a revision to the currently effective Snow Assistance policy dated December 28, 1999. The proposed policy maintains the basic tenets of the current policy, but includes additional declaration criteria for snow emergencies. In addition to an area experiencing “record” or “near-record” snowfall, FEMA will require evidence of the actual impacts from a snowstorm before making a recommendation for a snow emergency declaration. More specifically, FEMA will require that the snowstorm cause some of the following impacts: search and rescue operations, opening of shelters, closure of Interstates and State highways, power outages, closure of local government offices, and the need for federal equipment and labor. Once a declaration is made, assistance would be provided to all eligible applicants for eligible snow removal work for a 48-hour time period.

DATES: This notice is effective on publication. We invite comments that are received by November 1, 2002.

FOR FURTHER INFORMATION CONTACT: Melissa M. Howard, PhD., Recovery Division, Response and Recovery Directorate, Federal Emergency Management Agency, Washington, DC 20472, 202-646-4240 or Melissa.Howard@fema.gov (e-mail).

SUPPLEMENTARY INFORMATION: Comments are being solicited on a specific policy entitled Snow Emergency and Severe Winter Storm Declarations and Snow Removal Assistance. The policy follows:

A. Definitions

Contiguous County: A county that shares a border with a core county. Two counties that share a border across a State line are not considered contiguous counties.

Core County: A county that is declared under a snow emergency or severe winter storm that is designated for Snow Removal Assistance based on record or near-record snowfall.

Near-Record Snowfall: A snowfall that approaches, but does not exceed, the record snowfall as documented by NOAA's historical records. FEMA generally considers snowfall within ten percent of the record amount to be a near-record snowfall.

Record Snowfall: For the purposes of this policy, a record snowfall is defined as the maximum snowfall over a 1-, 2-, or 3-day period, as documented by historical records maintained by the National Oceanic and Atmospheric Administration (NOAA).

Severe Winter Storm: For the purposes of this policy, a severe winter storm is defined as an event that occurs during the winter season and includes snow, ice, high winds, blizzard conditions, etc., and causes substantial physical damage or loss to improved property.

Snow Removal Assistance: Snow removal assistance is assistance for snow removal, de-icing, salting, and sanding of roads.

B. Snow Emergency and Severe Winter Storm Declaration Criteria

It continues to be Federal policy that disaster response and recovery is the responsibility of the State and local governments. Federal assistance is supplementary and is appropriate only when an event is of such severity and magnitude that response requirements exceed State and local capabilities. FEMA's primary considerations for either an emergency or major disaster declaration recommendation for snow or severe winter storms are the actual impacts of the event.

1. All snow emergency declaration requests must satisfy the requirements of 44 CFR 206.35. All counties requested under this policy must have experienced a record or near-record snowfall or meet the contiguous county criteria described in C.1. FEMA will require evidence of some of the following impacts when making its recommendation to the President:

(a) Significant level of activation of National Guard for search and rescue operations and other life saving actions.

(b) Opening of multiple shelters for large numbers of stranded motorists and large numbers of victims of extended power outages.

(c) Closure of Interstates and/or State highways for extended periods of time exceeding 48 hours.

(d) Power outages across a significant portion of the storm-affected area exceeding 48 hours.

(e) Closure of local government offices for extended periods of time exceeding 48 hours.

(f) State's need for a significant level of federal equipment and labor to address the impacts of the event.

2. FEMA will follow the guidelines in 44 CFR 206.48 when evaluating a request for a major disaster declaration as a result of a severe winter storm. FEMA will not include snow removal costs when calculating the per capita cost impacts.

C. Provisions for Snow Removal Assistance:

1. The following procedures are followed for determining if an area has experienced a record or near-record snowfall:

(a) The current and historic snowfall values shall be compared for the same time period.

(b) When NOAA's historical data shows that multiple stations exist for a county, the current snowfall should be compared to the highest historical snowfall record for that county.

(c) For counties that do not have NOAA reporting stations, a comparison of the snowfall values for reporting stations within adjacent counties or the nearest reporting station shall be used for designation purposes. However, data from a station in another State will not be used.

2. A county that does not receive a record or near-record snowfall, but is contiguous to a core county may be designated for snow removal assistance if it has snowfall equal to or greater than that of the designated core county.

3. All eligible applicants within a designated area, including private non-profit organizations, are eligible for snow removal assistance.

4. Snow removal assistance for snow removal, salting, and sanding of roads is only eligible if the area meets the record, near-record, or contiguous county designation criteria. Generally, FEMA will provide assistance for eligible costs for force account labor (overtime only), contract, equipment, materials, etc. for a continuous period of 48 hours. If applicants award contracts for a period greater than 48 hours, eligible funding is limited to 48 hours. This same procedure applies to all other snow removal related costs. The eligible funding will only cover reasonable expenditures incurred for 48 hours of operations.

5. Applicants may use different 48-hour periods. Each district of a State-wide applicant (e.g., Department of Transportation) may have different 48-hour periods. All subdivisions of a local government must use the same 48-hour period.

6. The eligible time period may be extended 24 hours for the most extreme and anomalous conditions where snowfall quantities greatly exceed record amounts. To qualify for an extension, a significant number of the core counties within the State must experience snowfall that greatly exceeds the record amount. The time extension will be made for all designated counties within a state. Only the Assistant Director for Response and Recovery has the authority to extend the eligible time period.

7. In a major disaster declaration for a severe winter storm, snow removal assistance will not be approved by FEMA if the area does not meet the record, near record or contiguous county designation criteria. However, a very limited level of snow removal, incidental to the recovery, may be eligible for assistance. For example, snow removal that is necessary in order to access debris or for access to repair downed power lines may be eligible following a snowstorm that does not meet the record or near-record criteria.

8. Eligible snow removal costs will be reduced by the amount of snow removal insurance proceeds.

Dated: September 10, 2002.
John R. D'Araujo, Jr.,
Assistant Director, Response and Recovery Directorate.

[FR Doc. 02-23558 Filed 9-16-02; 8:45 am]

BILLING CODE 6718-02-P